DEPARTMENT OF THE TREASURY

Proposed Collection: Comment Request; Correction

AGENCY: Department of the Treasury.

ACTION: Notice; correction.

SUMMARY: The Department of the Treasury published a document in the Federal Register of March 28, 2013, soliciting comments on revisions of Treasury International Capital (TIC) Forms SHL/SHLA and SHC/SHCA. The document contained an erroneous “Type of U.S. Owner” code number 7 for Form SHCA.

FOR FURTHER INFORMATION CONTACT: Dwight Wolkow, 202-622-7527.

Correction

In the Federal Register of March 28, 2013, in FR Doc. 2013-07172, on page 19074, in the first column, correct “Form SHCA Changes (only),” section c., to read:

c. “Ownership Code” is replaced with “Type of U.S. Owner”. A new, more precise system of categories replaces the old categories. The new categories are: 1 = Depository Institution; 2 = Fund or Other Investment Vehicle (excluding pension and mutual funds); 3 = Pension Fund; 4 = Mutual Fund, 5 = Insurance Company; 6 = Other Financial Organization (including BHC and FHC); 7 = Nonfinancial Organization.

Dated: April 1, 2013.
Dwight Wolkow,
Administrator, International Portfolio Investment Data Systems.

[FR Doc. 2013-07858 Filed 4-3-13; 8:45 am]

BILLING CODE P